DEPARTMENT OF JUSTICE

Executive Office for Immigration Review; Agency Information Collection Activities; Revision of a Currently Approved; Comments Request

ACTION: 60-day notice of information collection under review; Extension of a currently approved collection; Fee waiver request.

The Department of Justice (DOJ), Executive Office for Immigration Review (EOIR) has submitted the following information collection request to the Office of Management and Budget (OMB) for review and approval in accordance with the Paperwork Reduction Act of 1995. The proposed information collection is published to obtain comments from the public and affected agencies. Comments are encouraged and will be accepted for “sixty days” until June 11, 2002. This process is conducted in accordance with 5 CFR 1320.10.

If you have comments especially on the estimated burden or associated response time, suggestions, or need a copy of the proposed information collection instrument with instructions or additional information, please contact: Charles Adkins-Blanch, 5107 Leesburg Pike, Suite 2600, Falls Church, Virginia 22041.

Written comments and suggestions from the public and affected agencies concerning the revision of a currently approved collection are encouraged. Your comments should address one or more of the following four points:

(1) Evaluate whether the collection of information is necessary for the proper performance of the functions of the agency, including whether the information will have practical utility;

(2) Evaluate the accuracy of the agency's estimate of the burden of the collection of information, including the validity of the methodology and assumptions used;

(3) Enhance the quality, utility, and clarity of the information to be collected; and

(4) Minimize the burden of the collection of information on those who are to respond, including through the use of appropriate automated, electronic, technical, or other technological collection techniques or other forms of information technology, e.g., permitting electronic submission of responses.

Overview of This Information Collection

(1) Type of Information Collection: Extension of a Currently Approved Collection.

(2) Title of the Form: Fee Waiver Request.

(3) Agency form number, if any, and the applicable component of the Department of Justice Sponsoring the collection: Form EOIR 26A, Executive Office for Immigration Review, United States Department of Justice.

(4) Affected Public who will be asked to respond, as well as a brief abstract: Primary: An alien appealing an Immigration Judge's decision. Other: None Abstract: The information collected on EOIR-26A will be used to determine whether the requisite fee for a motion or appeal will be waived due to an alien's financial situation.

(5) An estimate of the total number of respondents and the amount of time estimated for an average respondent to respond: 1,500 responses are estimated annually with a average of thirty minutes per response.

(6) An estimate of the total public burden (in hours) associated with the collection: 750 hours annually.

If additional information is required, contact: Mr. Robert B. Briggs, Clearance Officer, United States Department of Justice, Information Management and Security Staff, Justice Management Division, Suite 1600, Patrick Henry Building, 601 D Street, NW., Washington, DC 20530.

Dated: April 8, 2002.
Robert B. Briggs,
Department Clearance Officer, United States Department of Justice.

[FR Doc. 02-8895 Filed 4-11-02; 8:45 am]

BILLING CODE 4410-30-M